U.S.-CHINA ECONOMIC AND SECURITY REVIEW COMMISSION

Notice of Open Public Hearing

AGENCY: U.S.-China Economic and Security Review Commission.

ACTION: Notice of open public hearing—April 22, 2015, Washington, DC.

SUMMARY: Notice is hereby given of the following hearing of the U.S.-China Economic and Security Review Commission.

Name: William A. Reinsch, Chairman of the U.S.-China Economic and Security Review Commission. The Commission is mandated by Congress to investigate, assess, and report to Congress annually on “the national security implications of the economic relationship between the United States and the People's Republic of China.” Pursuant to this mandate, the Commission will hold a public hearing in Washington, DC on April 22, 2015, on “China ahead of the 13th Five-Year Plan: Competitiveness and Market Reform.”

DATES: Location, Date and Time: Room: TBA. Wednesday, April 22, 2015, 9 a.m.-3 p.m. A detailed agenda for the hearing will be posted to the Commission's Web site at www.uscc.gov. Also, please check our Web site for possible changes to the hearing schedule. Reservations are not required to attend the hearing.

FOR FURTHER INFORMATION CONTACT: Any member of the public seeking further information concerning the hearing should contact Reed Eckhold, 444 North Capitol Street NW., Suite 602, Washington, DC 20001; phone: 202-624-1496, or via email at reckhold@uscc.gov. Reservations are not required to attend the hearing.

SUPPLEMENTARY INFORMATION:

Background: This is the fifth public hearing the Commission will hold during its 2015 report cycle to collect input from academic, industry, and government experts on national security implications of the U.S. bilateral trade and economic relationship with China. This hearing will examine the 12th Five-Year Plan, its effect on China's strategic emerging industries and innovation, and emerging issues related to China's market reform and U.S. competitiveness and their implications for U.S. economic interests. The hearing will be co-chaired by Commissioner Robin Cleveland and Commissioner Michael R. Wessel. Any interested party may file a written statement by April 22, 2015, by mailing to the contact below. A portion of each panel will include a question and answer period between the Commissioners and the witnesses.

Authority: Congress created the U.S.-China Economic and Security Review Commission in 2000 in the National Defense Authorization Act (Pub. L. 106-398), as amended by Division P of the Consolidated Appropriations Resolution, 2003 (Pub. L. 108-7), as amended by Public Law 109-108 (November 22, 2005), as amended by Public Law 113-291 (December 19, 2014).

Dated: April 14, 2015.
Michael Danis,
Executive Director, U.S.-China Economic and Security Review Commission.

[FR Doc. 2015-08899 Filed 4-17-15; 8:45 am]

BILLING CODE 1137-00-P